BOARD OF GOVERNORS OF THE FEDERAL RESERVE SYSTEM

DEPARTMENT OF THE TREASURY

Agency Information Collection Activities; Renewal of a Currently Approved Collection; Comment Request; Prohibition on Funding of Unlawful Internet Gambling

AGENCY: Board of Governors of the Federal Reserve System (“Board”) and Departmental Offices, Department of the Treasury (“Treasury”) (collectively, the “Agencies”).

ACTION: Joint notice and request for comment.

SUMMARY: The Agencies are soliciting comments concerning the currently approved recordkeeping requirements associated with a joint rule, which is being renewed without change, implementing the Unlawful Internet Gambling Enforcement Act of 2006 (the “Act”). This notice is published jointly by the Agencies as part of their continuing effort to reduce paperwork and respondent burden. The public and other Federal agencies are invited to take this opportunity to comment on this information collection, as required by the Paperwork Reduction Act of 1995, Public Law 104-13 (44 U.S.C. 3506(c)(2)(A)).

DATES: Comments must be submitted on or before August 10, 2015.

ADDRESSES: Interested parties are invited to submit written comments to either or both of the Agencies. All comments, which should refer to the Office of Management and Budget (OMB) control numbers, will be shared between the Agencies. Direct all written comments as follows:

Board: You may submit comments, identified by OMB control no. 7100-0317, by any of the following methods:

• Agency Web site: http://www.federalreserve.gov. Follow the instructions for submitting comments at http://www.federalreserve.gov/apps/foia/proposedregs.aspx.

• Federal E-Rulemaking Portal: http://www.regulations.gov. Follow the instructions for submitting comments.

• Email: regs.comments@federalreserve.gov. Include docket number in the subject line of the message.

• FAX: 202/452-3819 or 202/452-3102.

• Mail: Robert deV Frierson, Secretary, Board of Governors of the Federal Reserve System, 20th Street and Constitution Avenue NW., Washington, DC 20551.

All public comments are available from the Board's Web site at http://www.federalreserve.gov/apps/foia/proposedregs.aspx as submitted, unless modified for technical reasons. Accordingly, your comments will not be edited to remove any identifying or contact information. Public comments may also be viewed electronically or in paper form in Room MP-500 of the Board's Martin Building (20th and C Streets NW.) between 9:00 a.m. and 5:00 p.m. on weekdays.

Treasury: You may submit comments, identified by OMB control no. 1505-0204, by regular mail to Martha Chacon, Staff Assistant, U.S. Department of the Treasury, 1500 Pennsylvania Avenue NW., Room 2000, Washington, DC 20220. In addition, comments may be sent by fax to (202) 622-1974, or by electronic mail to Martha.Chacon-Ospina@treasury.gov. In general, the Treasury will make all comments available in their original format, including any business or personal information provided such as names, addresses, email addresses, or telephone numbers, for public inspection and copying in the Treasury library, 1500 Pennsylvania Avenue NW., Washington, DC 20220, on official business days between the hours of 10 a.m. and 5 p.m. You can make an appointment to inspect comments by calling (202) 622-0990. All comments received, including attachments and other supporting materials, are part of the public record and subject to public disclosure. You should only submit comments that you wish to make publicly available.

Additionally, commenters should send a copy of their comments to the OMB desk officer for the Agencies by mail to the Office of Information and Regulatory Affairs, Office of Management and Budget, New Executive Office Building, Room 10235 725 17th Street NW., Paperwork Reduction Project (1505-0204 for Treasury or 7100-0317 for the Board), Washington, DC 20503 or by fax to 202-395-6974.

FOR FURTHER INFORMATION CONTACT: Requests for additional information or a copy of the collection may be obtained by contacting:

Board: Federal Reserve Board Acting Clearance Officer—Mark Tokarski—Office of the Chief Data Officer, Board of Governors of the Federal Reserve System, Washington, DC 20551 (202) 452-3829. Telecommunications Device for the Deaf (TDD) users may contact (202) 263-4869, Board of Governors of the Federal Reserve System, Washington, DC 20551.

Treasury: Steven D. Laughton, Deputy Assistant General Counsel (Banking and Finance), (202) 622-8413, U.S. Department of the Treasury, 1500 Pennsylvania Avenue NW., Room 2001, Washington, DC 20220.

SUPPLEMENTARY INFORMATION:

Request for Comment on Information Collection

The public is invited to submit comments concerning:

a. Whether the proposed collection of information is necessary for the proper performance of the Agencies' functions; including whether the information has practical utility;

b. The accuracy of the Agencies' estimate of the burden of the proposed information collection, including the validity of the methodology and assumptions used;

c. Ways to enhance the quality, utility, and clarity of the information to be collected;

d. Ways to minimize the burden of information collection on respondents, including through the use of automated collection techniques or other forms of information technology; and

e. Estimates of capital or start up costs and costs of operation, maintenance, and purchase of services to provide information.

Comments submitted in response to this notice will be shared between the Agencies. All comments received, including attachments and other supporting materials, are part of the public record and will be included in the submission to the Office of Management and Budget (OMB).

Title: Prohibition on Funding of Unlawful Internet Gambling.

OMB Control Numbers:

Board: 7100-0317.

Treasury: 1505-0204.

Abstract: On November 18, 2008, the Agencies published a joint notice of final rulemaking in the Federal Register (73 FR 69382) adopting a rule on a prohibition on the funding of unlawful Internet gambling pursuant to the Act. Identical sets of the final joint rule with identically numbered sections were adopted by the Board and the Treasury within their respective titles of the Code of Federal Regulations (12 CFR part 233 for the Board and 31 CFR part 132 for the Treasury). The compliance date for the joint rule was June 1, 2010 (74 FR 62687). The collection of information is set out in sections 5 and 6 of the joint rule.¹ Section 5 of the joint rule, as required by the Act, requires all non-exempt participants in designated payment systems to establish and implement written policies and procedures reasonably designed to identify and block or otherwise prevent or prohibit transactions in connection with unlawful Internet gambling.² Section 6 of the joint rule provides non-exclusive examples of policies and procedures deemed by the Agencies to be reasonably designed to identify and block or otherwise prevent or prohibit transactions restricted by the Act.

¹ Section 802 of the Act requires the Agencies to prescribe joint regulations requiring each designated payment system, and all participants in such systems, to identify and block or otherwise prevent or prohibit restricted transactions through the establishment of policies and procedures reasonably designed to identify and block or otherwise prevent or prohibit the acceptance of restricted transactions. 31 U.S.C. 5364(a). Section 802 also requires the Agencies to include in the joint rule non-exclusive examples of reasonably designed policies and procedures. 31 U.S.C. 5364(b).

² 12 CFR 233.5 and 233.6; and 31 CFR 132.5 and 132.6.

Type of Review: Extension of a currently approved collection.

Affected Public: Businesses or other for-profit and not-for-profit organizations.

Respondent burden: For the purpose of estimating burden and accounting for it with OMB, the total number of depository institutions listed for each Agency includes the number of entities regulated by the Agency and half of the remaining depository institutions and third-party processors. Each Agency is also accounting for the burden for half of the card system operators and money transmitting business operators to which the Agencies estimate the final rule applies.

Board:

Estimated number of recordkeepers: 3,039 depository institutions, 3,170 credit unions, 7 card system operators, 10 money transmitting business operators, and 3 new or de novo institutions.

Estimated average annual burden hours per recordkeeper: Ongoing annual burden of 8 hours per recordkeeper for depository institutions, credit unions, card system operators, and money transmitting business operators. One-time burden of 100 hours for new or de novo institutions.

Estimated frequency: Annually.

Estimated total annual recordkeeping burden: Ongoing burden, 49,808 hours and one-time burden, 300 hours.

Treasury:

Estimated number of recordkeepers: 3,748 depository institutions, 3,170 credit unions, 7 card system operators, 10 money transmitting business operators, and 3 new or de novo institutions.

Estimated average annual burden hours per recordkeeper: Ongoing annual burden of 8 hours per recordkeeper for depository institutions, credit unions, card system operators, and money transmitting business operators. One-time burden of 100 hours for new or de novo institutions.

Estimated frequency: Annually.

Estimated total annual recordkeeping burden: Ongoing burden, 55,480 hours and one-time burden, 300 hours.

The Agencies may not conduct or sponsor, and a person is not required to respond to, a collection of information unless the collection of information displays a valid OMB control number.

By the Board of Governors of the Federal Reserve System on May 27, 2015.
Robert deV Frierson,
Secretary of the Board.
Dated: May 28, 2015.
By the Department of the Treasury.
Dawn D. Wolfgang,
Treasury PRA Clearance Officer.

[FR Doc. 2015-14104 Filed 6-8-15; 8:45 am]

BILLING CODE 6210-01-P; 4810-25-P